FEDERAL COMMUNICATIONS COMMISSION

47 CFR Part 73

[DA 01-741; MM Docket No. 00-40; RM-9824]

Radio Broadcasting Services; Cobleskill and Saint Johnsville, NY

AGENCY: Federal Communications Commission.

ACTION: Final rule.

SUMMARY: The Commission, at the request of Regent Licensee of Mansfield, Inc., reallots Channel 278B from Cobleskill, NY, to Saint Johnsville, NY, as its first local aural service, and modifies the license of Station WQBJ to specify St. Johnsville as its community of license. See 65 FR 16558, March 29, 2000. Channel 278B can be allotted to Saint Johnsville in compliance with the Commission's minimum distance separation requirements with a site restriction of 15.9 kilometers (9.9 miles) east, at coordinates 42-58-21 NL; 74-29-30 WL, to accommodate petitioner's desired transmitter site. Although Saint Johnsville is located within 320 kilometers (200 miles) of the U.S.-Canadian border, prior approval of this allotment was not required since no change in the station's transmitter site was proposed. However, the Canadian Government will be notified of the change in the station's community of license.

DATES: Effective May 7, 2001.

FOR FURTHER INFORMATION CONTACT: Leslie K. Shapiro, Mass Media Bureau, (202) 418-2180.

SUPPLEMENTARY INFORMATION: This is a synopsis of the Commission's Report and Order, MM Docket No. 00-40, adopted March 14, 2001, and released March 23, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under New York, is amended by removing Cobleskill, Channel 278B, and adding Saint Johnsville, Channel 278B.

Federal Communications Commission.
John A. Karousos,
Chief, Allocations Branch, Policy and Rules Division, Mass Media Bureau.

[FR Doc. 01-8240 Filed 4-3-01; 8:45 am]

BILLING CODE 6712-01-U